DEPARTMENT OF TRANSPORTATION

Federal Aviation Administration

Notice of Intent To Rule on Request To Release Airport Property at the Burnet Municipal Airport, Burnet, TX

AGENCY: Federal Aviation Administration (FAA), DOT.

ACTION: Notice of Request To Release Airport Property.

SUMMARY: The FAA proposes to rule and invite public comment on the release of land at the Burnet Municipal Airport under the provisions of Section 125 of the Wendell H. Ford Aviation Investment Reform Act for the 21st Century (AIR 21).

DATES: Comments must be received on or before May 11, 2011.

ADDRESSES: Comments on this application may be mailed or delivered to the FAA at the following address: Mr. Mike Nicely, Manager, Federal Aviation Administration, Southwest Region, Airports Division, Texas Airports Development Office, ASW-650, Fort Worth, Texas 76137.

In addition, one copy of any comments submitted to the FAA must be mailed or delivered to Mr. David Vaughn, Asst. City Manager, at the following address: P.O. Box 1369, 1001 Buchanan Drive, Suite 4, Burnet, Texas 78611.

FOR FURTHER INFORMATION CONTACT: Mr. Steven Cooks, Program Manager, Federal Aviation Administration, Texas Airports Development Office, ASW-650, 2601 Meacham Boulevard, Fort Worth, Texas 76137. Telephone: (817) 222-5608. E-mail: Steven.Cooks@faa.gov. Fax: (817) 222-5989.

The request to release property may be reviewed in person at this same location.

SUPPLEMENTARY INFORMATION: The FAA invites public comment on the request to release property at the Burnet Municipal Airport under the provisions of the AIR 21.

The following is a brief overview of the request:

The City of Burnet requests the release of 4.407 acres of non-aeronautical airport property. A portion of the land was acquired by imminent domain in 1959 as part of the original 79.31 acres and the remaining portion was acquired in 1982. The property to be released will be sold to allow for a new public safety facility. The proposed facility will include police, fire, and EMS services which will benefit general aviation by establishing immediate security and safety services to all areas of the airport and greatly improve the quality and availability of these services to the entire community. Any person may inspect the request in person at the FAA office listed above under FOR FURTHER INFORMATION CONTACT.

In addition, any person may, upon request, inspect the application, notice and other documents relevant to the application in person at the Burnet Municipal Airport, telephone number (512) 756-6655.

Issued in Fort Worth, Texas on February 29, 2011.
Kelvin Solco,
Manager, Airports Division.

[FR Doc. 2011-8297 Filed 4-8-11; 8:45 am]

BILLING CODE P